DEPARTMENT OF ENERGY

Federal Energy Regulatory Commission

[ECOsponsible, LLC, Project No. 14987-000]

Notice of Preliminary Permit Application Accepted for Filing and Soliciting Comments, Motions To Intervene, and Competing Applications

On April 18, 2019, ECOsponsible, LLC, filed an application for a preliminary permit, pursuant to section 4(f) of the Federal Power Act (FPA), proposing to study the feasibility of hydropower on the Oneida River in Onondaga and Oswego Counties, New York. The sole purpose of a preliminary permit, if issued, is to grant the permit holder priority to file a license application during the permit term. A preliminary permit does not authorize the permit holder to perform any land-disturbing activities or otherwise enter upon lands or waters owned by others without the owners' express permission.

The proposed Caughdenoy Lock Hydro Project would consist of the following: (1) An existing 15-foot-high, 550-foot-long flood control dam (i.e., the Caughdenoy Dam) and an associated impoundment; (2) three turbines for a total installed capacity of 3,000 kilowatts to be installed on the Oneida Canal; (3) a new 50-foot-long transmission line from the powerhouse to an existing grid interconnection point; and (4) appurtenant facilities. The proposed project would have an average annual generation of 13,446 megawatt-hours.

Applicant Contact: Dennis Ryan, ECOsponsible, LLC, PO Box 114, West Falls, NY 14170; phone: (716) 222-2188.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14987-000.

More information about this project, including a copy of the application, can be viewed or printed on the “eLibrary” link of the Commission's website at http://www.ferc.gov/docs-filing/elibrary.asp. Enter the docket number (P-14987) in the docket number field to access the document. For assistance, contact FERC Online Support.

Dated: July 9, 2019.
Nathaniel J. Davis, Sr.,
Deputy Secretary.

[FR Doc. 2019-14928 Filed 7-12-19; 8:45 am]

BILLING CODE 6717-01-P